DEPARTMENT OF ENERGY

Federal Energy Regulatory Commission

[Docket Nos. ER04-688-000, ER04-689-000, ER04-690-000, ER04-693-000]

Pacific Gas and Electric Company; Notice of Technical Conference

August 4, 2004.

Parties are invited to attend a technical conference in the above-referenced Pacific Gas and Electric Company (PG&E) proceedings on August 9-11, 2004, at Pacific Gas and Electric Company Headquarters, San Francisco, California 94105. The technical conference will be held in Conference Room A in 245 Market Street, first floor, on August 9th and 10th and Room 2595 in 77 Beale Street on August 11th. The technical conference will be held from 9 a.m. until 5 p.m. (P.s.t.) on each day. Arrangements have been made for parties to listen to the technical conference by telephone.

The purpose of the conference is to identify the issues raised in these proceedings, develop information for use by Commission staff in preparing an order on the merits, and to facilitate any possible settlements in these proceedings. Specifically, the parties will discuss, among other things, the following unexecuted replacement agreements filed by PG&E in the above-referenced dockets: (1) The interconnection agreement between PG&E and Western Area Power Administration (WAPA), (2) the parallel operations agreement between PG&E and WAPA (PG&E Original Rate Schedule FERC No. 228), and (3) PG&E's wholesale distribution tariff service agreement for wholesale distribution service to WAPA.

Parties planning to attend this three-day technical conference must contact Joe Migocki at PG&E by 12 noon (Pacific time), Friday, August 6, 2004, at J3M9@pge.com or at (415) 973-6625, to develop a list of attendees for admission into PG&E's offices.

Questions about the conference and the telephone conference call arrangements should be directed to Julia A. Lake at (202) 502-8370 or Julia.lake@ferc.gov.

Magalie R. Salas,
Secretary.

[FR Doc. E4-1766 Filed 8-10-04; 8:45 am]

BILLING CODE 6717-01-P